DEPARTMENT OF COMMERCE

International Trade Administration

[A-489-829]

Steel Concrete Reinforcing Bar From the Republic of Turkey: Final Results of Antidumping Duty Administrative Review and Final Determination of No-Shipments; 2019-2020; Second Correction

AGENCY: Enforcement and Compliance, International Trade Administration, Department of Commerce.

SUMMARY: The Department of Commerce (Commerce) published a notice in the Federal Register on February 8, 2022, in which Commerce announced the final results of the 2019-2020 administrative review of the antidumping duty order on steel concrete reinforcing bar from the Republic of Turkey. This notice corrects the Assessment Rates section to include a sentence regarding Colakoglu Metalurji A.S./Colakoglu Dis Ticaret A.S.'s (Colakoglu) liquidation instructions that was inadvertently omitted.

DATES: Applicable April 1, 2022.

FOR FURTHER INFORMATION CONTACT: Robert Copyak or Jose Rivera, AD/CVD Operations, Office VII, Enforcement and Compliance, International Trade Administration, U.S. Department of Commerce, 1401 Constitution Avenue NW, Washington, DC 20230; telephone: (202) 482-3642 or (202) 482-0842, respectively.

SUPPLEMENTARY INFORMATION:

Correction

In the Federal Register of February 8, 2022, in the FR Doc. 2022-02638 on page 7119, in the third column, in the section “Assessment Rate,” we inadvertently omitted a sentence related to the liquidation instructions for Colakoglu. The “Assessment Rate” section should include the sentence: “Because we calculated a margin for Colakoglu which is zero or de minimis in the final results of this review, we intend to instruct CBP to liquidate the appropriate entries without regard to antidumping duties.”

Background

On February 8, 2022, Commerce published in the Federal Register the notice of the final results of the 2019-2020 administrative review.¹ We inadvertently omitted a sentence in the “Assessment Rates” section pertaining to Colakoglu. Thus, we are adding the following sentence in the “Assessment Rates” section of the notice: “Because we calculated a margin for Colakoglu which is zero or de minimis in the final results of this review, we intend to instruct CBP to liquidate the appropriate entries without regard to antidumping duties.” This notice serves as a notification of this correction to the Federal Register notice published on February 8, 2022.

¹ See Steel Concrete Reinforcing Bar from the Republic of Turkey: Final Results of Antidumping Duty Administrative Review and Final Determination of No Shipments; 2019-2020, 87 FR 7118 (February 8, 2022); see also Steel Concrete Reinforcing Bar from the Republic of Turkey: Final Results of Antidumping Duty Administrative Review and Final Determination of No Shipments; 2019-2020; Correction, 87 FR 10334 (February 24, 2022).

Notification to Interested Parties

This notice is issued and published in accordance with sections 751(a) and 777(i) of the Tariff Act of 1930, as amended.

Dated: March 25, 2022.
Lisa W. Wang,
Assistant Secretary for Enforcement and Compliance.

[FR Doc. 2022-06866 Filed 3-31-22; 8:45 am]

BILLING CODE 3510-DS-P